DEPARTMENT OF ENERGY

Federal Energy Regulatory Commission

[Docket No. RP01-6-001]

Kansas Pipeline Company; Notice of Revised Tariff Filing

November 15, 2000.

Take notice that on November 8, 2000, Kansas Pipeline Company (KPC) tendered for filing as part of its FERC Gas Tariff, Original Volume No. 1, the following revised tariff sheets, to be effective November 1, 2000. The revised tariff sheets, listed below, include provisions for imbalance trading and netting services:

Second Revised Sheet No. 239

Original Sheet No. 239A

First Revised Sheet No. 240

Original Sheet No. 240A

Second Revised Sheet No. 242

Second Revised Sheet No. 250

Original Sheet No. 250A

Original Sheet No. 250B

Original Sheet No. 250C

KPC states that copies of this filing have been served on all Kansas Pipeline Company customers and state commissions involved in this proceeding.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29678 Filed 11-20-00; 8:45 am]

BILLING CODE 6717-01-M